DEPARTMENT OF COMMERCE

National Oceanic and Atmospheric Administration

50 CFR Part 635

[Docket No. 000328086-0086-01; I.D. 012800H]

RIN 0648-AN56

Atlantic Highly Migratory Species; Bluefin Tuna Landings Reporting

AGENCY: National Marine Fisheries Service (NMFS), National Oceanic and Atmospheric Administration (NOAA), Commerce.

ACTION: Final rule; determination of state jurisdiction.

SUMMARY: NMFS has determined that the State of Maryland has implemented regulations for reporting Atlantic bluefin tuna (BFT) landings in the recreational fishery that are mandatory, at least as restrictive as the Federal reporting requirements, and effectively enforced. Under Maryland law, participants in the recreational fishery who land BFT must report via the Maryland BFT landing card program. Therefore, recreational anglers who land BFT in the State of Maryland are exempt from the requirement to report BFT landings through NMFS' automated landings reporting system. All other Federal regulations applicable to Atlantic tunas continue to apply within the boundary of the State of Maryland. The intent of this action is to eliminate a Federal requirement that duplicates State regulations.

DATES: Effective April 13, 2000 through May 31, 2001.

ADDRESSES: Requests for copies of the final rule and information on Atlantic tunas landings reporting should be directed to Rebecca Lent, Chief, Highly Migratory Species Management Division, Office of Sustainable Fisheries (F/SF1), NMFS, 1315 East-West Highway, Silver Spring, MD 20910-3282. Send comments regarding the burden-hour estimates or other aspects of the collection-of-information requirement contained in this rule to Rebecca Lent and to the Office of Information and Regulatory Affairs, Office of Management and Budget (OMB), Washington, DC 20503 (Attention: NOAA Desk Officer).

FOR FURTHER INFORMATION CONTACT: Maria Uitterhoeve, 301-713-2347; Pat Scida, 978-281-9208.

SUPPLEMENTARY INFORMATION:

Background

The Atlantic Tunas Convention Act (ATCA), codified at 16 U.S.C. 971 et seq., provides for U.S. participation in the conduct of scientific research programs and regulation of fishing operations by the International Commission for the Conservation of Atlantic Tunas (ICCAT). Section 971g(d)(2)(B) provides that Federal regulations promulgated to implement ICCAT recommendations shall apply within the boundary of any state bordering on any convention area if the Secretary of Commerce determines that any such state has laws or regulations that are less restrictive than the Federal regulations or, if not less restrictive, are not effectively enforced.

Regulations implemented under the authority of ATCA governing the harvest of Atlantic highly migratory species by persons and vessels subject to U.S. jurisdiction appear at 50 CFR part 635. Specifically, regulations limiting the harvest of BFT and requiring reporting of BFT landings implement ICCAT recommendations regarding country catch quotas and catch reporting. In the case of the U.S. recreational fishery for young (pre-spawning) BFT, ICCAT has recommended that landings of fish 27 to 47 inches (69 to 119 cm) curved fork length be limited to 8 percent of the U.S. quota. BFT of this size are the target of a popular summertime recreational fishery off the mid-Atlantic and southern New England coasts, and the potential for harvest far exceeds the available quota. Consequently, NMFS must restrict catch of BFT through annual quotas and trip limits and must monitor landings in real-time.

Automated Landings Reporting System

NMFS has set up an automated landings reporting system (ALRS), and regulations at 50 CFR 635.5(c) require that anglers who land BFT call a toll-free number (1-888-872-8862) to report the number and size of fish. NMFS also conducts dockside and telephone surveys of permitted anglers to estimate fishing effort and collect more detailed scientific information on catch and landings. Recognizing that the states also have an interest in collecting information on the economically important fisheries for Atlantic highly migratory species, NMFS has cooperated with the states to minimize duplication of effort and reduce the reporting burden while ensuring that BFT landings information is collected as quickly as possible. In the event that NMFS determines a state reporting system to be equally effective as the ALRS, NMFS will notify participating anglers that compliance with the state system satisfies the reporting requirement of 50 CFR 635.5(c).

Maryland BFT Landing Tag Program

State regulations promulgated under section 4-2A-03 of the Annotated Code of Maryland regarding landing of BFT in Maryland are found at the Code of Maryland Regulations 08.02.05.23. Such regulations allow BFT to be landed in the State of Maryland only if consistent with the applicable fishing seasons, size limits, and retention limits specified in the Code of Federal Regulations at 50 CFR part 635. The regulation also requires that BFT landed in Maryland be landed in whole form and have a landing tag affixed before removal of the fish from the vessel. If the BFT is on board a vessel on a trailer, a landing tag must be affixed before such vessel is removed from the water. A landing tag may be obtained only from officially designated reporting stations and only after the angler completes a landing reporting card for each BFT.

The catch reporting and landing tag regulations of Maryland are enforced by the Maryland Natural Resources Police. Violations of the Maryland BFT landings reporting regulations are subject to a fine. Anglers may obtain further information on the Maryland BFT landing tag program and on the locations of reporting stations from Al Wesche of the Maryland Department of Natural Resources at (410) 213-1531.

Determination of State Jurisdiction

Under Maryland regulations, recreational fishermen must report all BFT landings through the Maryland BFT landing tag program. NMFS has determined that the State of Maryland has implemented regulations for reporting BFT landings that are at least as restrictive as the Federal reporting requirements and are effectively enforced. Therefore, participants in the recreational fishery who land BFT in the State of Maryland are exempt from calling in their landings through the NMFS ALRS. This exemption applies only to ALRS reporting; all other Federal regulations for BFT (e.g., seasons, quotas, retention limits, permit requirements, survey participation) continue to apply within the boundary of the State of Maryland. Information on applicable Federal regulations may be obtained by calling (888) 872-8862 or (978) 281-9305, or through the Internet at: www.nmfspermits.com. Because ATCA requires NMFS to undertake a continuing review of state regulations with respect to the applicability of Federal regulations, this determination is effective only for the 2000 fishing year, which ends May 31, 2001.

Classification

This action is taken under the authority of 16 U.S.C. 971g(d)(2)(B) and is consistent with regulations at 50 CFR 635.5(c).

This final rule has been determined to be not significant for purposes of E.O. 12866.

This rule eliminates for participants in the BFT recreational fishery in Maryland a collection of information requirement subject to the Paperwork Reduction Act and approved by OMB under control number 0648-0328, namely a telephone report of a BFT landing. The burden eliminated is estimated at 5 minutes per telephone report, including the time for reviewing instructions, searching existing data sources, gathering and maintaining the data needed, and completing and reviewing the collection of information.

The Assistant Administrator for Fisheries, NOAA, has determined that under 5 U.S.C. 553(b)(B) there is good cause to waive the requirement for prior notice and opportunity for public comment because delaying the final rule to provide for such procedures would be contrary to the public interest in that it would subject fishermen landing BFT in Maryland to duplicative Federal and state regulations. This determination of state jurisdiction relieves a restriction by exempting anglers landing BFT in Maryland from the Federal requirement to report BFT landings since they are now subject to an effective State reporting requirement that fulfills the same purpose. Under 5 U.S.C. 553(d)(1), because this action relieves a restriction, it is not subject to a 30-day delay in effective date.

Because prior notice and opportunity for public comment is not required for this action by 5 U.S.C. 553 or by any other law, under 5 U.S.C. 603 it is not subject to the analytical requirements of the Regulatory Flexibility Act. Accordingly, no regulatory flexibility analysis was prepared.

Dated: April 7, 2000.
Penelope D. Dalton,
Assistant Administrator for Fisheries, National Marine Fisheries Service.

[FR Doc. 00-9352 Filed 4-13-00; 8:45 am]

BILLING CODE 3510-22-F